DEPARTMENT OF DEFENSE

GENERAL SERVICES ADMINISTRATION

NATIONAL AERONAUTICS AND SPACE ADMINISTRATION

[Notice-MVC-2019-02; Docket No. 2019-0009; Sequence No. 22]

Federal Acquisition Regulation; Prohibition on Contracting With Entities Using Certain Telecommunications and Video Surveillance Services or Equipment (FAR Case 2019-009), Public Meeting

AGENCY: Department of Defense (DoD), General Services Administration (GSA), and National Aeronautics and Space Administration (NASA).

ACTION: Update to announcement of public meeting.

SUMMARY: DoD, GSA, and NASA published an announcement of a public meeting on June 3, 2019 to obtain the views of experts and interested parties regarding implementation of section 889 of Title VII of the NDAA for FY 2019, with specific focus on the implementation of paragraph (a)(1)(B). No livestream will be available for this meeting.

DATES: The public meeting will be held on Friday, July 19, 2019, from 9 a.m. to 3 p.m., Eastern Daylight Time (EDT). The meeting will end prior to 3 p.m., EDT, if all speakers have concluded their presentations and there are no further comments from the general public.

ADDRESSES: The meeting will be held in the Department of Interior (DOI) Auditorium at 1849 C St. NW, Washington, DC 20240. In-person attendance without previous registration will be allowed as space permits. Further information for the public meeting may be found under the heading SUPPLEMENTARY INFORMATION.

FOR FURTHER INFORMATION CONTACT: Mr. Kevin Funk, Procurement Analyst, 202-357-5805.

SUPPLEMENTARY INFORMATION: Please see the GSA Interact web page at https://interact.gsa.gov/FY19NDAASection889 for additional information on the public meeting.

The announcement of the meeting was previously published in the Federal Register at 84 FR 25545 on June 3, 2019.

William F. Clark,
Director, Office of Governmentwide Acquisition Policy, Office of Acquisition Policy, Office of Governmentwide Policy.

[FR Doc. 2019-15417 Filed 7-16-19; 4:15 pm]

BILLING CODE 6820-EP-P